DEPARTMENT OF ENERGY

Federal Energy Regulatory Commission

Combined Notice of Filings #1

Take notice that the Commission received the following electric corporate filings:

Docket Numbers: EC15-114-000.

Applicants: Pattern US Finance Company LLC, Lost Creek Wind, LLC, Post Rock Wind Power Project, LLC.

Description: Application for Authorization of Transaction Under Section 203 of the FPA, Requests for Expedited Action, Waivers of Filing Requirements and Confidential Treatment of Transaction Documents of Pattern US Finance Company LLC, et al.

Filed Date: 4/6/15.

Accession Number: 20150406-5112.

Comments Due: 5 p.m. ET 4/27/15.

Take notice that the Commission received the following electric rate filings:

Docket Numbers: ER10-1325-002; ER10-1946-002; ER14-2323-000; ER11-2080-002; ER10-1333-002; ER14-2319-000; ER12-1958-002; ER14-2321-000; ER10-1335-002.

Applicants: CinCap V LLC, Duke Energy Beckjord, LLC, Duke Energy Carolinas, LLC, Duke Energy Commercial Asset Management, LLC, Duke Energy Commercial Enterprises, Inc., Duke Energy Florida, Inc., Duke Energy Piketon, LLC, Duke Energy Progress, Inc., Duke Energy Retail Sales, LLC.

Description: Duke Energy et al submits the updated triennial market power analysis under ER10-1325 et al.

Filed Date: 3/30/15.

Accession Number: 20150402-0052.

Comments Due: 5 p.m. ET 4/20/15.

Docket Numbers: ER10-1819-010; ER10-1820-013.

Applicants: Northern States Power Company, a Minnesota corporation, Northern States Power Company, a Wisconsin corporation.

Description: Triennial Market Power Analysis in Central Region [ER15-754-000] of Northern States Power Company, a Minnesota corporation and Northern States Power Company, a Wisconsin corporation.

Filed Date: 4/3/15.

Accession Number: 20150403-5113.

Comments Due: 5 p.m. ET 6/2/15.

Docket Numbers: ER10-2220-004.

Applicants: New York Independent System Operator, Inc.

Description: Motion to Terminate the Reporting Obligation of the New York Independent System Operator, Inc.

Filed Date: 3/24/15.

Accession Number: 20150324-5094.

Comments Due: 5 p.m. ET 4/14/15.

Docket Numbers: ER15-1218-000.

Applicants: Solar Star California XIII, LLC.

Description: Clarification to March 11, 2015 Solar Star California XIII, LLC tariff filing.

Filed Date: 4/1/15.

Accession Number: 20150401-5742.

Comments Due: 5 p.m. ET 4/22/15.

Docket Numbers: ER15-1451-000.

Applicants: California Independent System Operator Corporation.

Description: Compliance filing per 35: 2015-04-03_Waiver_

VirtualBiddingInterties to be effective N/A.

Filed Date: 4/3/15.

Accession Number: 20150403-5155.

Comments Due: 5 p.m. ET 4/13/15.

Docket Numbers: ER15-1452-000.

Applicants: Midcontinent Independent System Operator, Inc., Ameren Illinois Company.

Description: § 205(d) rate filing per 35.13(a)(2)(iii): 2015-04-06_SA 2765 MidAmerican Energy Company-Ameren Illinois TIA to be effective 3/30/2015.

Filed Date: 4/6/15.

Accession Number: 20150406-5040.

Comments Due: 5 p.m. ET 4/27/15.

Docket Numbers: ER15-1453-000.

Applicants: Entergy Arkansas, Inc., Entergy Gulf States Louisiana, L.L.C., Entergy Louisiana, LLC, Entergy Mississippi, Inc., Entergy New Orleans, Inc., Entergy Texas, Inc.

Description: Application of Entergy Services, Inc., on behalf of the Entergy Operating Companies for 2014 Transmission Formula Rate for Post-Retirement Benefits Other than Pensions.

Filed Date: 4/1/15.

Accession Number: 20150401-5754.

Comments Due: 5 p.m. ET 4/22/15.

Docket Numbers: ER15-1454-000.

Applicants: ITC Midwest LLC.

Description: § 205(d) rate filing per 35.13(a)(2)(iii): Joint Use Agreement—ITC Midwest and Eastern Iowa to be effective 6/6/2015.

Filed Date: 4/6/15.

Accession Number: 20150406-5070.

Comments Due: 5 p.m. ET 4/27/15.

Docket Numbers: ER15-1455-000.

Applicants: ISO New England Inc.

Description: § 205(d) rate filing per 35.13(a)(2)(iii): Conforming Filing to be effective 1/12/2015.

Filed Date: 4/6/15.

Accession Number: 20150406-5074.

Comments Due: 5 p.m. ET 4/27/15.

Docket Numbers: ER15-1456-000.

Applicants: Beaver Falls, L.L.C.

Description: § 205(d) rate filing per 35.13(a)(2)(iii): Notice of Succession to be effective 3/6/2015.

Filed Date: 4/6/15.

Accession Number: 20150406-5081.

Comments Due: 5 p.m. ET 4/27/15.

Docket Numbers: ER15-1457-000.

Applicants: Syracuse, L.L.C.

Description: § 205(d) rate filing per 35.13(a)(2)(iii): Notice of Succession to be effective 3/6/2015.

Filed Date: 4/6/15.

Accession Number: 20150406-5086.

Comments Due: 5 p.m. ET 4/27/15.

Docket Numbers: ER15-1458-000.

Applicants: Midcontinent Independent System Operator, Inc.

Description: § 205(d) rate filing per 35.13(a)(2)(iii): 2015-04-06_SA 2764 MidAmerican-MidAmerican GIA (J343) to be effective 4/7/2015.

Filed Date: 4/6/15.

Accession Number: 20150406-5116.

Comments Due: 5 p.m. ET 4/27/15.

Docket Numbers: ER15-1459-000.

Applicants: Emera Maine.

Description: Compliance filing per 35: Filing of EM-4 EPC Agreement with Blue Sky West to be effective 9/15/2014.

Filed Date: 4/6/15.

Accession Number: 20150406-5152.

Comments Due: 5 p.m. ET 4/27/15.

Docket Numbers: ER15-1459-001.

Applicants: srEmera Maine.

Description: Compliance filing per 35: Amended EM-4 EPC Agreement with Blue Sky West to be effective 3/6/2015.

Filed Date: 4/6/15.

Accession Number: 20150406-5158.

Comments Due: 5 p.m. ET 4/27/15.

Docket Numbers: ER15-1460-000.

Applicants: Southwestern Public Service Company.

Description: § 205(d) rate filing per 35.13(a)(2)(iii): 2015-4-6_SPS-GSEC-IA-Aggie Sub-665-0 1 0—Filing to be effective 4/30/2015.

Filed Date: 4/6/15.

Accession Number: 20150406-5153.

Comments Due: 5 p.m. ET 4/27/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 6, 2015.
Nathaniel J. Davis, Sr.,
Deputy Secretary.

[FR Doc. 2015-08366 Filed 4-10-15; 8:45 am]

BILLING CODE 6717-01-P